DEPARTMENT OF COMMERCE

United States Patent and Trademark Office

Proposed Guidelines for Ensuring and Maximizing the Quality, Objectivity, Utility, and Integrity of Information Disseminated by the USPTO

AGENCY: United States Patent and Trademark Office, Commerce.

ACTION: Notice of availability.

SUMMARY: This document announces the availability of the agency's draft report providing guidelines to ensure and maximize the quality, objectivity, utility, and integrity of information disseminated by the agency. These guidelines also detail the administrative mechanisms developed by the USPTO to allow affected persons to seek and obtain appropriate correction of information maintained and disseminated by the agency that does not comply with the OMB or the agency guidelines. This notice and guidelines are required by section 515 of the Treasury and General Government Appropriations Act for FY 2001 (Pub. L. 106-554) and the OMB Guidelines published on January 3, 2002, at 67 FR 369-378 (reprinted February 5, 2002, at 67 FR 5365). This notice also provides an opportunity for public comment. To be considered, comments must be received by May 31, 2002, at the address set forth below.

ADDRESSES: USPTO's draft report is available for public inspection and comment at USPTO's Web site, www.uspto.gov.

FOR FURTHER INFORMATION CONTACT: Bruce Cox, Director, Information Products Division, Bruce.Cox@uspto.gov (703) 306-2606; or Christopher Leithiser, Information Products Division, Chris.Leithiser@uspto.gov (703) 306-2622.

Dated: April 26, 2002.
James E. Rogan,
Under Secretary of Commerce for Intellectual Property and Director of the United States Patent and Trademark Office.

[FR Doc. 02-10853 Filed 5-1-02; 8:45 am]

BILLING CODE 3510-16-P